DEPARTMENT OF TRANSPORTATION

Federal Aviation Administration

14 CFR Part 39

[Docket No. FAA-2012-1297; Directorate Identifier 2012-SW-100-AD; Amendment 39-17285; AD 2012-25-04]

RIN 2120-AA64

Airworthiness Directives; Eurocopter France Helicopters

AGENCY: Federal Aviation Administration (FAA), DOT.

ACTION: Final rule; correction.

SUMMARY: The FAA is correcting an airworthiness directive (AD) that was published in the Federal Register. The AD applies to certain Eurocopter France (Eurocopter) Model AS350B3 helicopters. The reference to Title 14, Code of Federal Regulations (14 CFR) 91.173 in the Required Actions section is incorrect. This document corrects that error. In all other respects, the original document remains the same.

DATES: This final rule is effective August 13, 2013. The effective date for AD 2012-25-04 (78 FR 24041, April 24, 2013) remains May 9, 2013.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Robert Grant, Aviation Safety Engineer, Rotorcraft Directorate, Safety Management Group, FAA, 2601 Meacham Blvd., Fort Worth, TX 76137; phone: (817) 222-5110; fax: (817) 222-5110; email: robert.grant@faa.gov.

SUPPLEMENTARY INFORMATION: AD 2012-25-04, Amendment 39-17285 (78 FR 24041, April 24, 2013), applies to certain Eurocopter Model AS350B3 helicopters. AD 2012-25-04 currently requires, in part, before further flight and thereafter after each flight without exceeding 3 hours time-in-service between two checks, visually checking each laminated half bearing for certain conditions, and allows this check to be performed by a pilot if certain regulatory recordkeeping requirements are met. As such, AD 2012-25-04 currently includes the following as the last sentence under paragraph (f)(4): “The record must be maintained as required by 14 CFR 91.173, 121.380, or 134.439.”

As published, the reference to 14 CFR 91.173 is incorrect. The correct reference is to 14 CFR 91.417.

No other part of the preamble or regulatory information has been changed; therefore, only the changed portion of the final rule is being published in the Federal Register.

Correction of Regulatory Text

§ 39.13 [Corrected]

In the Federal Register of April 24, 2013, on page 24046, in the second column, the last sentence of paragraph (f)(4) is corrected to read as follows:

* * * * *

The record must be maintained as required by 14 CFR 91.417, 121.380, or 135.439.

* * * * *

Issued in Fort Worth, Texas, on August 2, 2013.
Lance T. Gant,
Acting Manager, Rotorcraft Directorate, Aircraft Certification Service.

[FR Doc. 2013-19444 Filed 8-12-13; 8:45 am]

BILLING CODE 4910-13-P